ENVIRONMENTAL PROTECTION AGENCY

40 CFR Part 52

[EPA-R09-OAR-2016-0772; FRL-9958-21-Region 9]

Determination of Attainment and Approval of Base Year Emissions Inventories for the Imperial County, California Fine Particulate Matter Nonattainment Area

AGENCY: Environmental Protection Agency (EPA).

ACTION: Direct final rule.

SUMMARY: The Environmental Protection Agency (EPA) is determining that the Imperial County, California Moderate nonattainment area (“the Imperial County NA”) has attained the 2006 24-hour fine particulate matter (PM2.5) national ambient air quality standard (NAAQS or “standard”). This determination, also known as a clean data determination (CDD), is based upon complete, quality-assured, and certified ambient air monitoring data showing that the area has monitored attainment of the 2006 24-hour PM2.5 NAAQS based on the 2013-2015 data available in the EPA's Air Quality System database. As a consequence of this determination of attainment, certain Clean Air Act (CAA) requirements that apply to the Imperial County Air Pollution Control District (ICAPCD or “District”) shall be suspended for so long as the area continues to meet the 2006 24-hour PM2.5 NAAQS. The area remains nonattainment for the 2012 annual PM2.5 NAAQS. The EPA is also approving a revision to California's state implementation plan (SIP) consisting of the 2008 emissions inventory for the Imperial County NA submitted by the California Air Resources Board (CARB or “State”) on January 9, 2015. This action is being taken under the CAA. Elsewhere in this issue of the Federal Register, we are proposing approval and soliciting written comment on these actions. If we receive adverse comments on this direct final rule that result in withdrawal of the entire rule or any part(s) of it, we will address those comments when we finalize the proposal. The EPA does not plan to institute a second comment period on this action. Any parties interested in commenting must do so at this time.

DATES: This rule is effective on May 12, 2017 without further notice, unless the EPA receives adverse comments by April 12, 2017. If we receive such comments, we will publish a timely withdrawal in the Federal Register to notify the public that this direct final rule will not take effect.

ADDRESSES: Submit comments, identified by docket number EPA-R09-OAR-2016-0772, at http://www.regulations.gov, or via email to Vagenas.Ginger@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the Web, cloud, or other file sharing system). For additional submission methods, please contact the person identified in the FOR FURTHER INFORMATION CONTACT section. For the EPA's full public comment policy, information about CBI or multimedia submissions, and general guidance on making effective comments, please visit http://www2.epa.gov/dockets/commenting-epa-dockets.

FOR FURTHER INFORMATION CONTACT: Ginger Vagenas, EPA Region IX, 415-972-3964, Vagenas.Ginger@epa.gov.

SUPPLEMENTARY INFORMATION: Throughout this document, the terms “we,” “us,” and “our” mean EPA.

Table of Contents

I. Background for the EPA's Proposed Action

II. Clean Data Determination

III. Analysis of Emissions Inventories

IV. Final Action

V. Statutory and Executive Order Reviews

I. Background for the EPA's Proposed Action

On July 18, 1997, the EPA established NAAQS for particles less than or equal to 2.5 micrometers (μm) in diameter (PM2.5), including an annual standard of 15.0 micrograms per cubic meter (μg/m³) based on a 3-year average of annual mean PM2.5 concentrations, and a 24-hour (daily) standard of 65 μg/m³ based on a 3-year average of 98th percentile 24-hour PM2.5 concentrations.¹ Effective December 18, 2006, the EPA revised the PM2.5 standard by lowering the level of the 24-hour PM2.5 standard to 35 μg/m³ (“2006 PM2.5 standard”) but retained the annual standard at 15 μg/m³.2 3

¹ 62 FR 36852 (July 18, 1997) and 40 CFR 50.7.

² 71 FR 61144 (October 17, 2006).

³ Effective March 18, 2013, the EPA strengthened the primary annual PM2.5 NAAQS by lowering the level to 12.0 μg/m³ while retaining the secondary annual PM2.5 NAAQS at the level of 15.0 μg/m³. 78 FR 3086 (January 15, 2013) and 40 CFR 50.18.

Following promulgation of a new or revised NAAQS, the EPA is required under CAA section 107(d) to designate areas throughout the nation as attaining or not attaining the NAAQS. On January 5, 2005, the EPA published initial air quality designations for the 1997 annual and 24-hour PM2.5 NAAQS.⁴ We designated Imperial County as “Unclassifiable/Attainment” for both the 1997 annual and 24-hour PM2.5 standards under subpart 1 of the CAA. We subsequently designated a portion of Imperial County as nonattainment under subpart 1 of the CAA for the 2006 24-hour standard effective December 13, 2009 (74 FR 58688, November 13, 2009).⁵

⁴ 70 FR 944 (January 5, 2005).

⁵ In 2015, the EPA designated a portion of Imperial County nonattainment for the 2012 annual PM2.5 NAAQS. The CDD that is the subject of this direct final rule pertains only to the 2006 24-hour PM2.5 standard. The area remains nonattainment for the 2012 annual PM2.5 standard. See 80 FR 2206 (January 15, 2015).

On June 2, 2014 (79 FR 31566), in response to a decision by the United States Court of Appeals for the District of Columbia, the EPA published a final rule classifying all areas then designated nonattainment for the 1997 and/or 2006 PM2.5 standards as “Moderate” under subpart 4 and establishing a deadline of December 31, 2014 for states to submit any attainment-related SIP elements required for these areas pursuant to subpart 4.⁶ The EPA provided its rationale for these actions in both the proposed and final classification/deadline rule.⁷

⁶ In April 2007, the EPA issued an implementation rule to assist states with the development of SIP submissions to meet attainment planning requirements of the 1997 standards (the “2007 PM2.5 Implementation Rule”). 72 FR 20583 (April 25, 2007). The EPA premised the 2007 PM2.5 Implementation Rule on its interpretation that nonattainment areas for the PM2.5 standards were subject solely to the general nonattainment plan requirements of subpart 1, part D of title 1 of the CAA (“subpart 1”). On January 4, 2013, the D.C. Circuit Court of Appeals issued its decision in a challenge to our 2007 PM2.5 implementation rule. See NRDC v. EPA, 706 F.3d 428 (D.C. Cir. 2013). In NRDC, the court held that the EPA erred in implementing the 1997 PM2.5 standard pursuant only to the general implementation requirements of subpart 1, rather than also to the implementation requirements specific to particulate matter in subpart 4, part D of title 1 of the CAA (“subpart 4”). The court remanded the rule and instructed the EPA “to repromulgate these rules pursuant to Subpart 4 consistent with this opinion.” This reasoning applies to all PM2.5 standards.

⁷ See 78 FR 69806, 69809 (November 21, 2013) and 79 FR 31566, 31568 (June 2, 2014).

Under EPA's longstanding Clean Data Policy, EPA may issue a determination of attainment after notice and comment rulemaking determining that a specific area is attaining the relevant standard.8 9 The effect of a CDD is to suspend the requirement for the area to submit an attainment demonstration, reasonably available control measures (RACM), a reasonable further progress (RFP) plan, contingency measures, and any other planning requirements related to attainment for as long as the area continues to attain the standard.

⁸ “Clean Data Policy for the Fine Particle National Ambient Air Quality Standards,” Memorandum from Stephen D. Page, December 14, 2004.

⁹ In a separate action mandated by CAA section 188(b)(2), the EPA has proposed to determine that Imperial County attained the 2006 24-hour PM2.5 standard by the applicable attainment deadline of December 31, 2015. See 81 FR 91088 (December 16, 2016). A determination that an area has attained by the applicable attainment date does not constitute a redesignation to attainment.

The EPA issued the Fine Particulate Matter National Ambient Air Quality Standards: State Implementation Plan Requirements on July 29, 2016 (effective October 24, 2016).¹⁰ In that rule, the EPA reaffirmed the Clean Data Policy at 40 CFR 51.1015, as follows:

¹⁰ 81 FR 58010 (August 24, 2016).

Upon a determination by EPA that a moderate PM2.5 nonattainment area has attained the PM2.5 NAAQS, the requirements for the state to submit an attainment demonstration, provisions demonstrating that reasonably available control measures (including reasonably available control technology for stationary sources) shall be implemented no later than 4 years following the date of designation of the area, reasonable further progress plan, quantitative milestones and quantitative milestone reports, and contingency measures for the area shall be suspended until such time as: (1) The area is redesignated to attainment, after which such requirements are permanently discharged; or, (2) EPA determines that the area has re-violated the PM2.5 NAAQS, at which time the state shall submit such attainment plan elements for the moderate nonattainment area by a future date to be determined by EPA and announced through publication in the Federal Register at the time EPA determines the area is violating the PM2.5 NAAQS. See 40 CFR 51.1015.

A CDD does not suspend the requirements for an emissions inventory or new source review.¹¹

¹¹ On December 8, 2016, the EPA proposed action on three rules that update the ICAPCD's NSR program. Specifically, we have proposed to fully approve Rules 204 (Applications) and 206 (Processing of Applications), and proposed a limited approval/limited disapproval of Rule 207 (New and Modified Stationary Source Review). We expect this proposed action to be published in the Federal Register in the near future. Today's action includes our proposed approval of the emissions inventories included in the attainment plan for the Imperial County NA submitted on January 9, 2015. See Section III below.

II. Clean Data Determination

A. Criteria for Determining Attainment

Under EPA regulations in 40 CFR part 50, section 50.18 and in accordance with appendix N, the 2006 24-hour PM2.5 standard is met when the design value is less than or equal to 35 μg/m³ (based on the rounding convention in 40 CFR part 50, appendix N) at each eligible monitoring site within the area.¹² Data completeness requirements for a given year are met when at least 75 percent of the scheduled sampling days for each quarter have valid data. A determination of whether an area's air quality currently meets the PM2.5 NAAQS is generally based upon the most recent three years of complete, quality-assured data gathered at established State and Local Air Monitoring Stations (SLAMS) in a nonattainment area and entered into the EPA's Air Quality System (AQS) database.¹³ Data from ambient air monitors operated by state/local agencies in compliance with the EPA monitoring requirements must be submitted to AQS. Monitoring agencies annually certify that these data are accurate to the best of their knowledge. Accordingly, the EPA relies primarily on data in AQS when determining the attainment status of areas.¹⁴

¹² The 24-hour PM2.5 standard design value is the 3-year average of annual 98th percentile 24-hour average values recorded at each eligible monitoring site, and the 2006 24-hour PM2.5 NAAQS is met when the 24-hour standard design value at each monitoring site is less than or equal to 35 μg/m³.

¹³ AQS is the EPA's repository of ambient air quality data.

¹⁴ See 40 CFR 50.7; 40 CFR part 50, appendix L; 40 CFR part 53; 40 CFR part 58, and 40 CFR part 58, appendices A, C, D, and E.

B. Monitoring Network and Data Considerations

The State and the District are the governmental agencies with the authority and responsibility under state law for collecting ambient air quality data within the Imperial County NA. Annually, CARB and the ICAPCD submit monitoring network plans to the EPA. These plans discuss the status of the air monitoring network as required under 40 CFR part 58. The EPA reviews these annual network plans for compliance with the applicable reporting requirements in 40 CFR 58.10. With respect to PM2.5, we have found that the annual network plans submitted by CARB and the ICAPCD meet the applicable requirements under 40 CFR part 58.¹⁵ Furthermore, we concluded in our Technical System Audit Report of CARB's and ICAPCD's ambient air quality monitoring program that the ambient air monitoring network currently meets or exceeds the requirements for the minimum number of monitoring sites designated as SLAMS for PM2.5 in the Imperial County NA.¹⁶ CARB annually certifies that the data it submits to AQS are quality-assured.¹⁷

¹⁵ See, e.g., letter from Meredith Kurpius, Manager, Air Quality Analysis Office, U.S. EPA Region IX, to Brad Poiriez, Air Pollution Control Officer, ICAPCD, dated October 24, 2014.

¹⁶ See, e.g., letter from Elizabeth J. Adams, Acting Director, Air Division, U.S. EPA Region IX, to Richard Corey, Executive Officer, CARB, dated August 31, 2016.

¹⁷ See, e.g., letter from Ravi Ramalingam, Chief, Consumer Products and Air Quality Assessment Branch, CARB, to Elizabeth Adams, Director, Air Division, U.S. EPA Region IX, dated May 10, 2016.

During the 2013-2015 period, CARB and ICAPCD operated three SLAMS within the Imperial County NA; all three sites are located in the southern portion of Imperial County. The Calexico-Ethel monitoring site is operated by CARB and is located approximately 0.7 miles north of the United States-Mexico border. The Calexico-Ethel monitoring site is the design value site for PM2.5 and the only violating SLAMS in Imperial County. ICAPCD operates two additional SLAMS: the Brawley monitoring site, located in the City of Brawley, 9 miles north of the border, and the El Centro monitoring site, located in the City of El Centro, 22 miles north of the border.

For the purposes of this proposed action, we reviewed the data for the most recent three-year period (2013-2015) for completeness and determined that the data collected by CARB and the ICAPCD meet the completeness criterion for all 12 quarters at PM2.5 monitoring sites in the Imperial County NA.¹⁸

¹⁸ The EPA notes that CARB and ICAPCD did not start daily sampling until 2014; however, daily sampling was not required under the monitoring regulations that applied at the time. Further, a separate calculation based on daily sampling data collected in 2013 at a collocated non-regulatory monitor yields a 98th percentile value for 2013 similar to that of the primary regulatory monitor. See memorandum from Michael Flagg, U.S. EPA, Region IX, Air Quality Analysis Office, “Implementation of PM2.5 sampling frequency requirements in Imperial County,” November 1, 2016. This memorandum is included in the rulemaking docket for this action.

C. Evaluation of Current Attainment

The EPA's evaluation of whether the Imperial County NA has attained the 2006 24-hour PM2.5 NAAQS is based on our review of the monitoring data and takes into account the adequacy of the PM2.5 monitoring network in the nonattainment area and the reliability of the data collected by the network, as previously discussed.

Table 1 shows the 24-hour PM2.5 design values at each of the three monitoring sites within the Imperial County NA for the most recent three-year period (2013-2015).

Table 1—2013-2015 24-Hour PM2.5 Design Values for the Imperial County NA
Local site name | Site (AQS ID) | 98th percentile (μg/m³): 2013 | 98th percentile (μg/m³): 2014 | 98th percentile (μg/m³): 2015 | 2013-2015 24-hour design values (μg/m³)
Calexico Ethel | 06-025-0005 | 27.4 | 36.3 | 34.6 | 33
El Centro | 06-025-1003 | 19.0 | 19.6 | 14.1 | 18
Brawley | 06-025-0007 | 17.2 | 19.9 | 12.4 | 17
Source: EPA, Design Value Report, December 2, 2016.

The data show that the 24-hour design value for the 2013-2015 period was equal to or less than 35 μg/m³ at all monitors. Therefore, we are proposing to determine, based on complete, quality-assured, and certified data for 2013-2015, that the Imperial County NA has attained the 2006 24-hour PM2.5 standard. Preliminary data available in AQS for 2016 (January through August) indicate that the area continues to attain the standard and are consistent with the determination of attainment. Additional preliminary data available on CARB's real-time Web site for September through December are also consistent with attainment.¹⁹

¹⁹ CARB's real-time AQMIS (Air Quality and Meteorological Information System) database can be found at: https://www.arb.ca.gov/aqmis2/aqmis2.php. AQMIS provides a combination of preliminary real-time data and historical regulatory data.

III. Analysis of Emissions Inventories

A. California's SIP Submittal for the 2006 PM2.5 Standard for the Imperial County NA

Today's action also concerns the emissions inventories included in the “Imperial County 2013 State Implementation Plan for the 2006 24-Hour PM2.5 Moderate Nonattainment Area” (“2013 PM2.5 Plan” or “Plan”) adopted by the District on December 2, 2014 and submitted to the EPA as a SIP revision on January 9, 2015.²⁰

²⁰ As provided in 40 CFR 51.1015, our clean data determination for the Imperial County NA suspends requirements to submit an attainment demonstration, associated RACM, RFP plan, contingency measures, and other SIP revisions related to the attainment of the 2006 24-hour PM2.5 NAAQS, but does not suspend the requirement for an inventory. Therefore, in conjunction with our clean data determination for the Imperial County NA, we are also approving the 2008 base year inventories submitted with the 2013 PM2.5 Plan.

B. Public Notice, Public Hearing, and Completeness Requirements for SIP Submittals

CAA sections 110(a)(1) and (2) and 110(l) require each state to provide reasonable public notice and opportunity for public hearing prior to the adoption and submission of a SIP or SIP revision to the EPA. To meet this requirement, every SIP submission should include evidence that adequate public notice was given and an opportunity for a public hearing was provided consistent with the EPA's implementing regulations in 40 CFR 51.102.

Both the District and the State satisfied applicable statutory and regulatory requirements for reasonable public notice and hearing prior to adoption and submission of the 2013 PM2.5 Plan. The District provided a public comment period and held a public hearing prior to the adoption of the SIP submission on December 2, 2014.²¹ CARB provided the required public notice and opportunity for public comment prior to its December 18, 2014 public hearing and adoption of the SIP submission.²² The submission includes proof of publication of notices for the respective public hearings. We find, therefore, that the 2013 PM2.5 Plan meets the procedural requirements for public notice and hearing in CAA sections 110(a) and 110(l).

²¹ ICAPCD, “Notice of Public Hearing for Adoption of Imperial County 2013 State Implementation Plan for the 2006 24-Hour PM2.5 Moderate Nonattainment Area,” published October 24, 2014 and November 2, 2014.

²² CARB, “Notice of Public Meeting to Consider Approval of the Imperial County 2013 State Implementation Plan for the 2006 24-Hour PM2.5 Moderate Nonattainment Area,” November 18, 2014; and CARB Board Resolution 14-43, “Imperial County 2013 State Implementation Plan for the 2006 24-Hour PM2.5 Moderate Nonattainment Area,” December 18, 2014.

CAA section 110(k)(1)(B) requires the EPA to determine whether a SIP submission is complete within 60 days of receipt. This section of the CAA also provides that any plan that the EPA has not affirmatively determined to be complete or incomplete will become complete by operation of law six months after the date of submission. The EPA's SIP completeness criteria are found in 40 CFR part 51, Appendix V. The January 9, 2015 SIP submission became complete by operation of law on July 9, 2015.

C. Requirements for Emissions Inventories

CAA section 172(c)(3) requires that each SIP include a comprehensive, accurate, current inventory of actual emissions from all sources of the relevant pollutant or pollutants in the area. By requiring an accounting of actual emissions from all sources of the relevant pollutants in the area, this section ensures that the base year inventory will include all emissions that contribute to the formation of a particular NAAQS pollutant. For the 2006 24-hour PM2.5 NAAQS, this includes directly emitted PM2.5 (referred to as primary or direct PM2.5) as well as the main chemical precursors to the formation of secondary PM2.5: Nitrogen oxides (NOX), sulfur oxides (SOx), volatile organic compounds (VOC), and ammonia (NH3). Primary PM2.5 includes condensable and filterable particulate matter.

A state should include in its SIP submittal documentation explaining how the emissions data were calculated. In estimating mobile source emissions, a state should use the latest emissions models and planning assumptions available at the time the SIP is developed. At the time the 2013 PM2.5 Plan was developed, California was required to use the model EMFAC2011 to estimate tailpipe and brake and tire wear emissions of PM2.5, NOX, SOx, and VOC from on-road mobile sources (78 FR 14533, March 6, 2013). States are required to use the EPA's AP-42 road dust method for calculating re-entrained road dust emissions from paved roads (76 FR 6328, February 4, 2011).

D. Emissions Inventories in the 2013 PM2.5 Plan

The annual average planning inventories for direct PM2.5 and all PM2.5 precursors (NOX, SOx, VOC, and ammonia) for the Imperial County PM2.5 NA, together with documentation for the inventories, are found in Chapter 3 of the 2013 PM2.5 Plan. CARB and the District worked together to develop a complete inventory for all sources in Imperial County using activity information and emission factors. Activity data may come from national survey data or reports (e.g., from the United States Department of Agriculture Economic Research Service) or local sources such as the Southern California Gas Company, paint suppliers, and District databases. Emission factors can be based on a number of variables including source tests, compliance reports, and the EPA's AP-42.

CARB provided annual average and winter daily average inventories for 2008, which it designated as the base year for the 2006 PM2.5 Plan. CARB included both annual average and winter daily average inventories because a majority of the exceedances addressed by the 2013 PM2.5 Plan occurred in the winter (November through April). Each inventory includes emissions from point, area, on-road, and non-road sources. Stationary sources include point and area sources. Point sources in the Imperial County air basin that emit 10 tons per year or more of VOC, NOX, SOx, or PM2.5 report annual emissions to the District.

The District and CARB develop an annual emissions inventory for all sources in Imperial County, including separate inventories for winter and summer and an annual average inventory. Point source emissions for the 2008 base year emission inventories were based on this information. Area sources include smaller emissions sources distributed across the nonattainment area. Many small point sources and facilities that are not inventoried individually are estimated as a group and are included in the area source category.

The source categories that generate the most emissions (unpaved roads and tilling and harvesting operations) reflect implementation of PM10 Best Available Control Measures (BACM) approved rules. Agricultural burning is regulated under both ICAPCD's EPA-approved Rule 701 and its CARB-approved Smoke Management Plan.

The on-road mobile inventories use EMFAC2011 for estimating motor vehicle emissions.²³ EMFAC2011 calculates emission rates from all motor vehicles that operate on highways, freeways, and local roads in California. EMFAC2011 uses California Department of Motor Vehicle registration data for the number of vehicles, the Southern California Association of Governments travel demand output model for the number of vehicle miles traveled, and California Bureau of Automotive Repair for odometer readings and for emission factors derived from vehicle surveillance programs and dynamometer readings.

²³ 2013 PM2.5 Plan, p. 21-22.

Off-road emissions such as construction, aircraft (military, commercial, and civil), gardening equipment, agricultural equipment, and recreational vehicle emissions were calculated using CARB's 2011 Off-Road Model.²⁴ The off-road model uses source population, activity, and emission estimates for all off-road vehicles, including boats, outdoor recreational vehicles, industrial and construction equipment, farm equipment, lawn and garden equipment, aircraft, and trains.

²⁴ Id.

A summary of the Plan's 2008 winter and annual base year inventories is provided in Table 2 below. For a more detailed discussion of the inventories, see the 2013 PM2.5 Plan, Chapter 3.

Table 2—PM2.5 Emissions Inventory by Source Category, Winter and Annual Planning Emissions Inventories
[tpd (tons per day)]
Source category | Winter average 2008 | Annual average 2008
Direct PM2.5
Stationary Sources | 0.495 | 0.508
Area-Wide Sources | 10.786 | 10.933 | Mobile Sources: |  |
On-Road Vehicles | 0.302 | 0.301
Other Mobile Sources: |  |
Aircraft | 0.759 | 0.760
Off-Road, Trains, Recreational Boats, and Farm Equipment | 0.277 | 0.322
Total Direct PM2.5 | 12.619 | 12.824
Nitrogen Oxides
Stationary Sources | 1.836 | 1.875
Area-Wide Sources | 0.423 | 0.462
Mobile Sources: |  |
On-Road Vehicles | 8.608 | 8.425
Other Mobile Sources: |  |
Aircraft | 1.523 | 1.524
Off-Road, Trains, Recreational Boats, and Farm Equipment | 6.053 | 6.502
Total Nitrogen Oxides | 18.443 | 18.788
Volatile Organic Compounds
Stationary Sources | 1.059 | 1.071
Area-Wide Sources | 7.639 | 9.069
Mobile Sources: |  |
On-Road Vehicles | 1.996 | 2.072
Other Mobile Sources: |  |
Aircraft | 2.186 | 2.189
Off-Road, Trains, Recreational Boats, and Farm Equipment | 2.657 | 3.624
Total Volatile Organic Compounds | 15.537 | 18.025
Sulfur Oxides
Stationary Sources | 0.079 | 0.081
Area-Wide Sources | 0.058 | 0.068
Mobile Sources: |  |
On-Road Vehicles | 0.015 | 0.015
Other Mobile Sources: |  |
Aircraft | 0.204 | 0.205
Off-Road, Trains, Recreational Boats and Farm Equipment | 0.026 | 0.026
Total Sulfur Oxides | 0.382 | 0.395
Ammonia
Stationary Sources | 3.142 | 3.100
Area-Wide Sources | 27.622 | 31.693
Mobile Sources: |  |
On-Road Vehicles | 0.166 | 0.166
Other Mobile Sources: |  |
Aircraft | 0.000 | 0.000
Off-Road, Trains, Recreational Boats and Farm Equipment | 0.002 | 0.002
Total Ammonia | 30.932 | 34.961
Source: 2013 PM2.5 Plan, Chapter 3, Tables 3.1, 3.7, 3.8, 3.9, and 3.10.

E. EPA's Evaluation and Final Action

The inventories in the 2013 PM2.5 Plan are based on the most current and accurate information available to the State and District at the time the Plan and its inventories were being developed, including the latest EPA-approved version of California's mobile source emissions model, EMFAC2011, and the EPA's most recent AP-42 methodology for paved road dust. The inventories comprehensively address all source categories in the Imperial County NA and were developed consistent with the EPA's inventory guidance. For these reasons, we are approving the 2013 PM2.5 Plan's annual average and winter daily average inventories for 2008 as meeting the requirements of CAA section 172(c)(3).

IV. Final Action

The EPA is determining that the Imperial County NA has attained the 2006 24-hour PM2.5 NAAQS. As provided in 40 CFR 51.1015, this clean data determination suspends the requirements for this area to submit an attainment demonstration, associated RACM, RFP plan, contingency measures, and any other planning SIP revisions related to the attainment of the 2006 24-hour PM2.5 NAAQS, so long as this area continues to meet the standard. This clean data determination does not constitute a redesignation to attainment. The Imperial County NA will remain designated nonattainment for the 2006 24-hour PM2.5 NAAQS until such time as the EPA determines, pursuant to sections 107 and 175A of the CAA, that the Imperial County NA meets the CAA requirements for redesignation to attainment, including an approved maintenance plan showing that the area will continue to meet the standard for 10 years. We are also approving the 2013 PM2.5 Plan's annual average and winter daily average inventories for 2008 as meeting the requirements of CAA section 172(c)(3).

As authorized in section 110(k)(3) of the Act, the EPA is fully approving the submitted base year emissions inventory because we believe it fulfills all relevant requirements. We do not think anyone will object to this inventory approval or the CDD, so we are finalizing them without proposing in advance. However, in the Proposed Rules section of this issue of the Federal Register, we are simultaneously proposing to make a CDD and proposing approval of the same submitted emissions inventory. If we receive adverse comments by April 12, 2017, we will publish a timely withdrawal in the Federal Register to notify the public that some or all of the provisions of the direct final approval will not take effect and we will address the comments in a subsequent final action based on the proposal. If we do not receive timely adverse comments, the direct final approval will be effective without further notice on May 12, 2017.

V. Statutory and Executive Order Reviews

This action makes a clean data determination based on air quality and suspends certain federal requirements, and thus, does not impose additional requirements beyond those imposed by state law. In addition, under the Clean Air Act, the Administrator is required to approve a SIP submission that complies with the provisions of the Act and applicable federal regulations. 42 U.S.C. 7410(k); 40 CFR 52.02(a). Thus, in reviewing SIP submissions, the EPA's role is to approve State choices, provided that they meet the criteria of the Clean Air Act. Accordingly, this proposed action merely approves State law as meeting federal requirements and does not impose additional requirements beyond those imposed by State law. For these reasons, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Nitrogen dioxide, Particulate matter, Reporting and recordkeeping requirements, Sulfur oxides, Volatile organic compounds.

Dated: January 3, 2017.
Alexis Strauss,
Acting Regional Administrator, Region IX.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart F—California

2. Section 52.220 is amended by adding paragraph (c)(484) to read as follows:

§ 52.220 Identification of plan—in part.

* * * * *

(c) * * *

(484) The following plan was submitted on January 9, 2015, by the Governor's designee.

(i) [Reserved]

(ii) Additional materials.

(A) Imperial County Air Pollution Control District.

(1) “Imperial County 2013 State Implementation Plan for the 2006 24-Hour PM2.5 Moderate Nonattainment Area,” adopted December 2, 2014, Chapter 3 (“Emissions Inventory”) excluding: Section 3.4.1 (“Determination of Significant Sources of PM2.5 Precursors”); the 2011 and 2012 winter and annual average inventories in Table 3.1 (“PM2.5 Emissions Inventory by Major Source Category 2008, 2011 and 2012 Winter and Annual Planning Emissions Inventories”); the 2011 and 2012 winter and annual average inventories in Table 3.7 (“NOX Emissions Inventory by Major Source Category 2008, 2011 and 2012 Winter and Annual Planning Emissions Inventories”); the 2011 and 2012 winter and annual average inventories in Table 3.8 (“VOCs Emissions Inventory by Major Source Category 2008, 2011 and 2012 Winter and Annual Planning Emissions Inventories”); the 2011 and 2012 winter and annual average inventories in Table 3.9 (“SOX Emissions Inventory by Major Source Category 2008, 2011 and 2012 Winter and Annual Planning Emissions Inventories”); and the 2011 and 2012 winter and annual average inventories in Table 3.10 (“Ammonia Emissions Inventory by Major Source Category 2008, 2011 and 2012 Winter and Annual Planning Emissions Inventories”).

3. Section 52.247 is amended by adding paragraph (i) to read as follows:

§ 52.247 Control strategy and regulations: Fine Particle Matter.

* * * * *

(i) Determination of attainment. Effective May 12, 2017, EPA has determined that, based on 2013 to 2015 ambient air quality data, the Imperial County PM2.5 nonattainment area has attained the 2006 24-hour PM2.5 NAAQS. Under the provisions of EPA's PM2.5 implementation rule (see 40 CFR 51.1015), this determination suspends the requirements for this area to submit an attainment demonstration, associated reasonably available control measures, a reasonable further progress plan, contingency measures, and other planning SIPs related to attainment for as long as this area continues to attain the 2006 24-hour PM2.5 NAAQS. If EPA determines, after notice-and-comment rulemaking, that this area no longer meets the 2006 24-hour PM2.5 NAAQS, the corresponding determination of attainment for that area shall be withdrawn.

[FR Doc. 2017-04780 Filed 3-10-17; 8:45 am]

BILLING CODE 6560-50-P